DEPARTMENT OF STATE

[Public Notice 4156]

Shipping Coordinating Committee; Notice of Meeting

The Shipping Coordinating Committee will conduct an open meeting at 9 a.m. on Friday, December 13, 2002, in Room 6319, at U.S. Coast Guard Headquarters, 2100 Second Street, SW, Washington, DC 20593-0001. The meeting will discuss the upcoming 46th Session of the Subcommittee on Stability and Load Lines and on Fishing Vessels Safety (SLF) and associated bodies of the International Maritime Organization (IMO) which will be held September 8-12, 2003, at the IMO Headquarters in London, England.

Items of discussion will include:

a. Harmonization of damage stability provisions in SOLAS Chapter II-1,

b. Large Passenger Ship Safety,

c. Review of the Intact Stability Code,

d. Revision of the Fishing Vessel Safety Code and Voluntary Guidelines,

e. Review of the Offshore Supply Vessel Guidelines, and

f. Harmonization of damage stability provisions in other IMO instruments, including the 1993 Torremolinos Protocol (probabilistic method).

Members of the public may attend this meeting up to the seating capacity of the room. Interested persons may seek information by writing: Mr. Paul Cojeen, U.S. Coast Guard Headquarters, Commandant (G-MSE-2), Room 1308, 2100 Second Street, SW, Washington, DC 20593-0001 or by calling (202) 267-2988.

Dated: October 23, 2002.
Stephen Miller,
Executive Secretary, Shipping Coordinating Committee, Department of State.

[FR Doc. 02-28928 Filed 11-13-02; 8:45 am]

BILLING CODE 4710-07-P